DEPARTMENT OF TRANSPORTATION

Pipeline and Hazardous Materials Safety Administration

[Docket No. PHMSA-05-21314; Notice 2]

Pipeline Safety: Grant of Waiver; BOC Gases

AGENCY: Pipeline and Hazardous Materials Safety Administration (PHMSA), U.S. Department of Transportation (DOT).

ACTION: Grant of Waiver; BOC Gases.

SUMMARY: BOC Gases (BOC) petitioned PHMSA for a waiver from the pipeline safety standards at 49 CFR 195.306(c)(5) to allow the use of inert gas or carbon dioxide as the test medium for pressure testing its existing carbon dioxide pipeline.

SUPPLEMENTARY INFORMATION: The hazardous liquid pipeline safety regulation at 49 CFR 195.306(c)(5) allows an operator of a carbon dioxide pipeline to use inert gas or carbon dioxide as the test medium if the pipe involved is new pipe having a longitudinal joint factor of 1.00.

BOC is requesting the waiver to use carbon dioxide as the test medium in its carbon dioxide pipeline system. The BOC carbon dioxide pipeline system is approximately 14 miles northwest of Green River, Wyoming and located in Sweetwater County. (The County is a remote, uninhabited area that does not lie within any city or other populated limits.) The pipeline was constructed in February 1995 and is 7 miles in length. The line is constructed of 3.5-inch diameter, American Petroleum Institute (API) API 5L, Grade B seamless pipe, and has a wall thickness of 0.300-inches.

BOC calculated the pipe's internal design pressure to be 4,320 pounds per square inch gauge (psig) using the formula in § 195.106 and pressure tested the pipe after construction. The minimum pressure was 3,575 psig and the pipe was tested for 2 hours. The pipeline is effectively coated and has had a sacrificial anode cathodic protection system since its construction.

In justification for this waiver, BOC proposed the following testing procedure:

• BOC will use liquid carbon dioxide to pressure test the entire 7 mile pipeline;

• BOC will maintain a minimum test pressure of 3,575 psig or 60% of the pipeline's specified minimum yield strength (SMYS) for at least 4 hours;

• BOC will test the pipeline for an additional 4 hours at a minimum pressure of 3,146 psig or 48% of SMYS;

• BOC will station personnel along the pipeline to observe any conditions which might indicate leakage during the test;

• BOC personnel will be in constant communication with its personnel who will supervise and conduct the pressure test; and

• BOC's building facilities will be unoccupied and its personnel will be stationed along the pipeline where it parallels the State highway whenever the test pressure exceeds 50% SMYS during the pressure test.

BOC asserts that this pipeline does not pose a risk to the public or the environment because it is in a remote location, in excellent condition, and will be tested and operated at a low percentage of SMYS.

After reviewing the waiver request, PHMSA published a notice inviting interested persons to comment on whether a waiver should be granted (70 FR 40780; July 14, 2005). No comments were received from the public in response to the notice.

For the reasons explained above and in the July 14, 2005 Notice, PHMSA finds that the requested waiver is not inconsistent with pipeline safety and that an equivalent level of safety can be achieved. Therefore, BOC's request for waiver of compliance from 49 CFR 195.306(c)(5) is granted on the condition that BOC follow its proposed testing procedure for testing its carbon dioxide pipeline system.

Issued in Washington, DC on September 21, 2005.
Theodore L. Willke,
Deputy Associate Administrator for Pipeline Safety.

[FR Doc. 05-19199 Filed 9-26-05; 8:45 am]

BILLING CODE 4910-60-P